DEPARTMENT OF HEALTH AND HUMAN SERVICES

Centers for Disease Control and Prevention

Prospective Grant of Exclusive License: Nucleic Acid Vaccines for Prevention of Flavivirus Infection

AGENCY: Centers for Disease Control and Prevention (CDC), Department of Health and Human Services.

ACTION: Notice.

SUMMARY: This is a notice in accordance with 35 U.S.C. 209(e) and 37 CFR 404.7(a)(1)(i) that the Centers for Disease Control and Prevention (CDC), Technology Transfer Office, Department of Health and Human Services (DHHS), is contemplating the grant of a worldwide exclusive license to practice the inventions embodied in the patents and patent applications referred to below to Fort Dodge Animal Health, a Division of Wyeth, located in Overland Park, Kansas. The patent rights in these inventions have been assigned to the government of the United States of America. The patents and patent applications to be licensed are:

Title:

U.S. Patent Application SN 60/087,908 entitled “Nucleic Acid Vaccines for Prevention of Flavivirus Infection,” filed 5.13.1999. And related applications: PCT/US99/12298, filed 6.3.1999; U.S. Patent Application SN 09/701,536; and all foreign applications listed in Appendix A. CDC reference No. I-008-97

U.S. Patent application SN 09/826,115 entitled “Nucleic Acid Vaccines for Prevention of Flavivirus Infection,” filed 4.4.2001. And related application PCT/US02/10764 filed 4.4.2002. CDC reference No. I-001-01

The prospective exclusive license will be royalty-bearing and will comply with the terms and conditions of 35 U.S.C. 209 and 37 CFR 404.7.

This invention covers a recombinant DNA vaccine candidate for the prevention of flavivirus. Licensee will further develop this vaccine candidate for use as an animal vaccine.

ADDRESSES: Requests for a copy of the patent applications, inquiries, comments, and other materials relating to the contemplated license should be directed to Andrew Watkins, Director, Technology Transfer Office, Centers for Disease Control and Prevention (CDC), 4770 Buford Highway, Mailstop K-79, Atlanta, GA 30341, telephone: (770) 488-8600; facsimile: (770) 488-8615. Applications for a license filed in response to this notice will be treated as objections to the grant of the contemplated license. Only written comments and/or applications for a license which are received by CDC within sixty days of this notice will be considered. Comments and objections submitted in response to this notice will not be made available for public inspection, and, to the extent permitted by law, will not be released under the Freedom of Information Act, 5 U.S.C. 552. A signed Confidential Disclosure Agreement will be required to receive a copy of any pending patent application.

Dated: January 27, 2003.
Joseph R. Carter,
Associate Director for Management and Operations, Centers for Disease Control and Prevention (CDC).

[FR Doc. 03-2393 Filed 1-31-03; 8:45 am]

BILLING CODE 4163-18-P